DEPARTMENT OF ENERGY

Federal Energy Regulatory Commission

Combined Notice of Filings #2

Take notice that the Commission received the following exempt wholesale generator filings:

Docket Numbers: EG16-2-000.

Applicants: CID Solar, LLC.

Description: Self-Certification of Exempt Wholesale Generator Status of CID Solar, LLC.

Filed Date: 10/5/15.

Accession Number: 20151005-5298.

Comments Due: 5 p.m. ET 10/26/15.

Docket Numbers: EG16-3-000.

Applicants: Cottonwood Solar, LLC.

Description: Self-Certification of Exempt Wholesale Generator Status of Cottonwood Solar, LLC.

Filed Date: 10/5/15.

Accession Number: 20151005-5302.

Comments Due: 5 p.m. ET 10/26/15.

Take notice that the Commission received the following electric rate filings:

Docket Numbers: ER16-21-000.

Applicants: PJM Interconnection, L.L.C.

Description: § 205(d) Rate Filing: First Revised Service Agreement No. 4083; Queue Y3-058 (WMPA) to be effective 9/16/2015.

Filed Date: 10/5/15.

Accession Number: 20151005-5272.

Comments Due: 5 p.m. ET 10/26/15.

Docket Numbers: ER16-22-000.

Applicants: Michigan Electric Transmission Company.

Description: § 205(d) Rate Filing: Filing of Second Amended and Restated Service Agreement to be effective 12/1/2015.

Filed Date: 10/5/15.

Accession Number: 20151005-5308.

Comments Due: 5 p.m. ET 10/26/15.

Docket Numbers: ER16-23-000.

Applicants: Alabama Power Company.

Description: § 205(d) Rate Filing: PowerSouth NITSA Amendment Filing (Add Ray Delivery Point) to be effective 9/16/2015.

Filed Date: 10/5/15.

Accession Number: 20151005-5319.

Comments Due: 5 p.m. ET 10/26/15.

Docket Numbers: ER16-24-000.

Applicants: PJM Interconnection, L.L.C.

Description: § 205(d) Rate Filing: First Revised WMPA Service Agreement No. 3688, Queue No. Y2-117 to be effective 9/8/2015.

Filed Date: 10/5/15.

Accession Number: 20151005-5330.

Comments Due: 5 p.m. ET 10/26/15.

Docket Numbers: ER16-25-000.

Applicants: Southwest Power Pool, Inc.

Description: § 205(d) Rate Filing: Ministerial Filing to Incorporate Order 760 Language to be effective 3/1/2014.

Filed Date: 10/5/15.

Accession Number: 20151005-5337.

Comments Due: 5 p.m. ET 10/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 5, 2015.
Nathaniel J. Davis, Sr.,
Deputy Secretary.

[FR Doc. 2015-25916 Filed 10-9-15; 8:45 am]

BILLING CODE 6717-01-P